DEPARTMENT OF LABOR

Employment and Training Administration

[TA-W-51,599]

Teksystems Workers Employed at Honeywell, Incorporated Advanced Circuits Division, Minnetonka, MN, Notice of Termination of Investigation

Pursuant to section 221 of the Trade Act of 1974, an investigation was initiated on March 6, 2003 in response to a worker petition which was filed on behalf of workers at TekSystems employed at Honeywell, Incorporated, Advanced Circuits Division, Minnetonka, Minnesota.

An active certification covering the petitioning group of workers is already in effect (TA-W-39,281, as amended). Consequently, further investigation in this case would serve no purpose, and the investigation has been terminated.

Signed in Washington, DC this 9th day of July 2003.
Linda G. Poole,
Certifying Officer, Division of Trade Adjustment Assistance.

[FR Doc. 03-18827 Filed 7-23-03; 8:45 am]

BILLING CODE 4510-30-P